DEPARTMENT OF HOUSING AND URBAN DEVELOPMENT

[Docket No. FR-5609-N-15]

Notice of Proposed Information Collection for Public Comment: Statutorily-Mandated Collection of Information for Tenants in LIHTC Properties

AGENCY: Office of the Policy Development and Research, HUD.

ACTION: Notice.

SUMMARY: The proposed information collection requirement described below will be submitted to the Office of Management and Budget (OMB) for review, as required by the Paperwork Reduction Act. The Department is soliciting public comments on the subject proposal.

DATES: Comments Due Date: February 26, 2013.

ADDRESSES: Interested persons are invited to submit comments regarding this proposal. Comments should refer to the proposal by name and/or OMB Control number and should be sent to: Reports Liaison Officer, Office of Policy Development & Research, Department of Housing and Urban Development, 451 7th Street SW., Room 8226, Washington, DC 20410-5000.

FOR FURTHER INFORMATION CONTACT: Michael K. Hollar, (202) 402-5878, for copies of the proposed forms and other available documents. (This is not a toll-free number.)

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology (e.g., permitting electronic submission of responses). This Notice also lists the following information:

Title of Proposal: Statutorily-Mandated Collection of Information for Tenants in LIHTC Properties.

Description of the need for the information and proposed use: Section 2835(d) of the Housing and Economic Recovery Act, or HERA, (Pub. L. 110-289, approved July 30, 2008) amends Title I of the U.S. Housing Act of 1937 (42 U.S.C. 1437 et seq.) (1937 Act) to add a new section 36 (to be codified as 42 U.S.C. 1437z-8) that requires each state agency administering tax credits under section 42 of the Internal Revenue Code of 1986 (low-income housing tax credits or LIHTC) to furnish HUD, not less than annually, information concerning the race, ethnicity, family composition, age, income, use of rental assistance under section 8(o) of the U.S. Housing Act of 1937 or other similar assistance, disability status, and monthly rental payments of households residing in each property receiving such credits through such agency.

New section 36 requires HUD to establish standards and definitions for the information to be collected by state agencies and to provide states with technical assistance in establishing systems to compile and submit such information and, in coordination with other federal agencies administering housing programs, establish procedures to minimize duplicative reporting requirements for properties assisted under multiple housing programs. In 2010, OMB approved the first collection instrument used for the collection of LIHTC household information (OMB Approval No. 2528-0165, expiration date 05/31/2013). HUD used the previously approved form to collect data on LIHTC tenants in 2009, 2010 and 2011. Renewal of this form is required for HUD to remain in compliance with the statute.

OMB Approval Number: 2528-0165.

Agency form numbers: None.

Members of Affected Public: There are sixty state and local housing finance agencies which allocate low-income housing tax credits and conduct program compliance. HERA directs these agencies to submit the requested data to HUD.

Estimation of the total number of hours needed to prepare the information collection including number of respondents, frequency of response, and hours of response: This data collection includes two forms, one requesting data on properties placed in service in a single calendar year and a second requesting data on all tenants in LIHTC-subsidized units, and will be conducted annually. HUD expects completion of the properties placed in service form to average approximately eight person-hours per respondent. HUD expects completion of the tenant form to average approximately forty person-hours per respondent. In combination, the overall response burden totals 48 person-hours per respondent. The total estimated annual burden across all respondents for this data collection is 2,880 hours (60 respondents × 48 hours per respondent).

Status of the proposed information collection: Pending OMB approval.

Authority: Section 2835(d) of the Housing and Economic Recovery Act, Public Law 110-289, Title I of the U.S. Housing Act of 1937 (42 U.S.C. 1437 et seq.)

Dated: December 20, 2012.
Erika C. Poethig,
Acting Assistant Secretary for Policy Development and Research.

[FR Doc. 2012-31198 Filed 12-27-12; 8:45 am]

BILLING CODE 4210-67-P